DEPARTMENT OF ENERGY

Federal Energy Regulatory Commission

Combined Notice of Filings # 1

May 19, 2008.

Take notice that the Commission received the following electric corporate filings:

Docket Numbers: EC08-67-000.

Applicants: LS Power Development, LLC; Luminus Management, LLC.

Description: Supplemental filing of LS Power Development, LLC et al. in support of their joint application for approval under section 203 of the Federal Power Act.

Filed Date: 05/13/2008.

Accession Number: 20080515-0271.

Comment Date: 5 p.m. Eastern Time on Tuesday, June 3, 2008.

Docket Numbers: EC08-88-000.

Applicants: Black Hills Wyoming, Inc.

Description: Application of Black Hills Wyoming, Inc. for Approval Under Federal Power Act section 203 Authorization for Sale of a Public Utility Facility.

Filed Date: 05/16/2008.

Accession Number: 20080519-5004.

Comment Date: 5 p.m. Eastern Time on Friday, June 6, 2008.

Take notice that the Commission received the following exempt wholesale generator filings:

Docket Numbers: EG08-72-000.

Applicants: Locust Ridge II, LLC.

Description: Notice of Self-Certification of Exempt Wholesale Generator Status of Locust Ridge II, LLC.

Filed Date: 05/14/2008.

Accession Number: 20080514-5064.

Comment Date: 5 p.m. Eastern Time on Wednesday, June 4, 2008.

Docket Numbers: EG08-73-000.

Applicants: Lempster Wind, LLC.

Description: Notice of Self-Certification of Exempt Wholesale Generator Status of Lempster Wind, LLC.

Filed Date: 05/16/2008.

Accession Number: 20080516-5099.

Comment Date: 5 p.m. Eastern Time on Friday, June 6, 2008.

Take notice that the Commission received the following electric rate filings:

Docket Numbers: ER02-579-006.

Applicants: Capitol District Energy Center Cogeneration.

Description: Notification of Change in Status of Capitol District Energy Center Cogeneration Associates.

Filed Date: 05/15/2008.

Accession Number: 20080515-5069.

Comment Date: 5 p.m. Eastern Time on Thursday, June 5, 2008.

Docket Numbers: ER02-580-007.

Applicants: Pawtucket Power Assoc. Lp.

Description: Notification of Change in Status of Pawtucket Power Associates Limited Partnership.

Filed Date: 05/15/2008.

Accession Number: 20080515-5073.

Comment Date: 5 p.m. Eastern Time on Thursday, June 5, 2008.

Docket Numbers: ER05-968-002.

Applicants: Basin Creek Equity Partners L.L.C.

Description: Notification of Change in Status of Basin Creek Equity Partners L.L.C.

Filed Date: 05/15/2008.

Accession Number: 20080515-5070.

Comment Date: 5 p.m. Eastern Time on Thursday, June 5, 2008.

Docket Numbers: ER08-572-002.

Applicants: Entergy Services, Inc.

Description: Entergy Operating Companies submits Substitute Sheet 653 to their Open Access Transmission Tariff in compliance with the Commission's 4/15/08 Order.

Filed Date: 05/15/2008.

Accession Number: 20080516-0145.

Comment Date: 5 p.m. Eastern Time on Thursday, June 5, 2008.

Docket Numbers: ER08-743-001.

Applicants: Southwest Power Pool, Inc.

Description: Southwest Power Pool, Inc. submits Substitute Second Revised Sheet 354 to FERC Electric Tariff, Fifth Revised Volume 1 to their 3/28/08 filing of Open Access transmission Tariff, effective 6/1/08.

Filed Date: 05/15/2008.

Accession Number: 20080516-0146.

Comment Date: 5 p.m. Eastern Time on Thursday, June 5, 2008.

Docket Numbers: ER08-934-001.

Applicants: Locust Ridge II, LLC.

Description: Locust Ridge II, LLC submits revision to the Application for Market-Based Rate Authorization filed on 5/9/08 to reflect Locust Ridge II correct name.

Filed Date: 05/15/2008.

Accession Number: 20080516-0144.

Comment Date: 5 p.m. Eastern Time on Thursday, June 5, 2008.

Docket Numbers: ER08-952-000.

Applicants: ISO New England Inc. and New England Power Pool Participants Committee.

Description: ISO New England, Inc. and New England Power Pool Participants Committee submits revision to the Forward Capacity Market etc., to be effective 5/15/08.

Filed Date: 05/14/2008.

Accession Number: 20080516-0028.

Comment Date: 5 p.m. Eastern Time on Wednesday, June 4, 2008.

Docket Numbers: ER08-953-000.

Applicants: Wisconsin Electric Power Company.

Description: Wisconsin Electric Power Company submits revised Facilities Agreement Between Wisconsin Electric and the City of Oconomowoc.

Filed Date: 05/14/2008.

Accession Number: 20080516-0035.

Comment Date: 5 p.m. Eastern Time on Wednesday, June 4, 2008.

Docket Numbers: ER08-954-000.

Applicants: Kelson Energy III LLC.

Description: Kelson Energy III LC submits its market-based rate tariff, Electric Tariff, Original Volume 1 effective 3/1/08.

Filed Date: 05/14/2008.

Accession Number: 20080516-0029.

Comment Date: 5 p.m. Eastern Time on Wednesday, June 4, 2008.

Docket Numbers: ER08-955-000.

Applicants: Southern Company Services, Inc.

Description: Georgia Power Company submits Updated Depreciation Rates for use in the calculation of changes for services provided under Southern Company Services, Inc's Open Access Transmission Tariff.

Filed Date: 05/14/2008.

Accession Number: 20080516-0030.

Comment Date: 5 p.m. Eastern Time on Wednesday, June 4, 2008.

Docket Numbers: ER08-956-000.

Applicants: Pacific Gas and Electric Company.

Description: Pacific Gas and Electric Company submits an amendment to the Generator Special Facilities Agreement for the Contra Costa 8 power project, now known as the Gateway Generating Station etc.

Filed Date: 05/15/2008.

Accession Number: 20080516-0031.

Comment Date: 5 p.m. Eastern Time on Thursday, June 5, 2008.

Docket Numbers: ER08-957-000.

Applicants: ISO New England Inc.

Description: ISO New England Inc request that the Commission accept the First Quarter 2008 Report as filed, effective 4/1/08.

Filed Date: 05/15/2008.

Accession Number: 20080516-0032.

Comment Date: 5 p.m. Eastern Time on Thursday, June 5, 2008.

Docket Numbers: ER08-958-000.

Applicants: Trans-Allegheny Interstate Line Company.

Description: Revised Sheet 3141.01 et al. of the Open Access Transmission Tariff of PJM Interconnection LLC, FERC Electric Tariff, Sixth Revised Volume 1 effective on 5/15/08.

Filed Date: 05/15/2008.

Accession Number: 20080516-0033.

Comment Date: 5 p.m. Eastern Time on Thursday, June 5, 2008.

Docket Numbers: ER08-959-000.

Applicants: Florida Power Corporation.

Description: Florida Power Corporation submits informational filing for Progress Energy Florida, Inc's Annual Update for its OATT formula transmission rate.

Filed Date: 05/15/2008.

Accession Number: 20080516-0034.

Comment Date: 5 p.m. Eastern Time on Thursday, June 5, 2008.

Docket Numbers: ER08-960-000.

Applicants: California Independent System Operator Corporation.

Description: California Independent System Operator Corp's Petition for Waiver of Tariff Provisions to Accommodate Transition to Reformed Large Generator Interconnection Procedures and Motion to Shorten Comment Period.

Filed Date: 05/15/2008.

Accession Number: 20080516-0143.

Comment Date: 5 p.m. Eastern Time on Thursday, May 29, 2008.

Docket Numbers: ER08-976-000.

Applicants: Baltimore Gas and Electric Company.

Description: Baltimore Gas and Electric Company, et al. Electronic Informational Filing of 2008 Formula Rate Annual Update.

Filed Date: 05/15/2008.

Accession Number: 20080515-5049.

Comment Date: 5 p.m. Eastern Time on Thursday, June 5, 2008.

Docket Numbers: ER08-977-000.

Applicants: Atlantic City Electric Company.

Description: Informational Filing of 2008 Formula Rate Update of Atlantic City Electric Company.

Filed Date: 05/15/2008.

Accession Number: 20080515-5096.

Comment Date: 5 p.m. Eastern Time on Thursday, June 5, 2008.

Docket Numbers: ER08-978-000.

Applicants: Delmarva Power & Light Company.

Description: Informational Filing of 2008 Formula Rate Update of Delmarva Power & Light Company.

Filed Date: 05/15/2008.

Accession Number: 20080515-5104.

Comment Date: 5 p.m. Eastern Time on Thursday, June 5, 2008.

Docket Numbers: ER08-979-000.

Applicants: Potomac Electric Power Company.

Description: Informational Filing of 2008 Formula Rate Update of Potomac Electric Power Company.

Filed Date: 05/15/2008.

Accession Number: 20080515-5128.

Comment Date: 5 p.m. Eastern Time on Thursday, June 5, 2008.

Take notice that the Commission received the following foreign utility company status filings:

Docket Numbers: FC07-30-000.

Applicants: Calpine Island Cogeneration, LP, Calpine Power, LP

Description: Notification of Change of Address on behalf of Harbinger Capital Partners Master Fund I, Ltd., et al. under EC08-59, et al.

Filed Date: 05/16/2008.

Accession Number: 20080516-5088.

Comment Date: 5 p.m. Eastern Time on Friday, June 6, 2008.

Take notice that the Commission received the following open access transmission tariff filings:

Docket Numbers: OA07-34-001.

Applicants: Sierra Pacific Resources Operating Compa.

Description: Order No. 890 OATT Compliance Filing of the Sierra Pacific Resources Operating Companies under OA07-34.

Filed Date: 05/16/2008.

Accession Number: 20080519-5023.

Comment Date: 5 p.m. Eastern Time on Friday, June 6, 2008.

Docket Numbers: OA07-52-003.

Applicants: Puget Sound Energy, Inc.

Description: Order No. 890 OATT Filing of Puget Sound Energy, Inc. (Corrected First Revised Sheet No. 184).

Filed Date: 05/14/2008.

Accession Number: 20080514-5100.

Comment Date: 5 p.m. Eastern Time on Wednesday, June 4, 2008.

Docket Numbers: OA08-100-001.

Applicants: Duke Energy Carolinas, LLC.

Description: Supplemental Refund Report of Duke Energy Carolinas, LLC under OA08-100.

Filed Date: 05/16/2008.

Accession Number: 20080516-5106.

Comment Date: 5 p.m. Eastern Time on Friday, June 6, 2008.

Docket Numbers: OA08-116-000.

Applicants: Wolverine Power Supply Cooperative, Inc.

Description: Request for Renewal of Waiver of Standards of Conduct of Wolverine Power Supply Cooperative, Inc. under OA08-116.

Filed Date: 05/16/2008.

Accession Number: 20080516-5079.

Comment Date: 5 p.m. Eastern Time on Friday, June 6, 2008.

Take notice that the Commission received the following public utility holding company filings:

Docket Numbers: PH08-26-000.

Applicants: FMR LLC, FIL Limited.

Description: FERC-65A Exemption Notification of Status as Passive Investors of FMR LLC and FIL Limited.

Filed Date: 05/16/2008.

Accession Number: 20080516-5084.

Comment Date: 5 p.m. Eastern Time on Friday, June 6, 2008.

Take notice that the Commission received the following electric reliability filings:

Docket Numbers: RR08-1-002.

Applicants: North American Electric Reliability Corp.

Description: Compliance Filing of the North American Electric Reliability Corporation in Response to the Commission's February 21 2008 Order.

Filed Date: 05/16/2008

Accession Number: 20080516-5110.

Comment Date: 5 p.m. Eastern Time on Monday, June 16, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-11920 Filed 5-28-08; 8:45 am]

BILLING CODE 6717-01-P